DEPARTMENT OF STATE

[Public Notice: 11498]

Designation of Sidan Ag Hitta and Salem ould Breihmatt as Specially Designated Global Terrorists

Acting under the authority of and in accordance with section 1(a)(ii)(B) of E.O. 13224, I hereby determine that (a) the person known as Sidan Ag Hitta, also known as Asidan Ag Hitta, also known as Abu Qarwani, also known as Abu Abdelhakim al-Kidali, also known as Abu `Abd al-Hakim and (b) the person known as Salem ould Breihmatt, also known as Abu Hamza al-Shanqiti, also known as Abu Hamza al-Shinqiti, also known as Hamza al-Mauritani, also known as Hamza Nitrik, also known as Cheikh ould Mohamed Saleck ould Abed, are leaders of Jama'at Nusrat al-Islam wal-Muslimin, a group whose property and interests in property are blocked pursuant to a prior determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to these determinations who might have a constitutional presence in the United States, because to do so would render ineffectual the measures authorized in the Order.

This determination shall be published in the Federal Register.

Authority: E.O. 13224, Section 1(a)(ii).

Dated: July 28, 2021.
Antony J. Blinken,
Secretary of State.

[FR Doc. 2021-17283 Filed 8-11-21; 8:45 am]

BILLING CODE 4710-AD-P